NUCLEAR REGULATORY COMMISSION

Request To Amend a License To Import Radioactive Waste

Pursuant to Title 10 of the Code of Federal Regulations (10 CFR) 110.70(b) “Public Notice of Receipt of an Application,” please take notice that the U.S. Nuclear Regulatory Commission (NRC) has received the following requests for import and export license amendments. Copies of the requests are available electronically through the Agencywide Documents Access and Management System (ADAMS) and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR. 49139 (Aug. 28, 2007). Information about filing electronically is available on the NRC's public Web site at http://www.nrc.gov/site-help/e-submittals.html. To ensure timely electronic filing, at least five days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within 30 days after publication of this notice in the Federal Register to Office of the Secretary, U.S. Nuclear Regulatory Commission, Washington, DC 20555, Attention: Rulemaking and Adjudications.

The information concerning this import license amendment application follows.

NRC Import License Amendment Application Description of Material
Name of applicant, date of application, date received, application No., docket No. | Material type | Total quantity | End use | Country from
EnergySolutions November 2, 2015 November 6, 2015 XW010/03 11005620 | Class A radioactive waste. All materials subject to this authorization are materials imported under EnergySolutions Import license XW010/03 | Increase (up from 5,500 tons to a new maximum total of 10,000 tons of low-level waste) | Amend to add three domestic suppliers located in Tennessee, and to extend the expiration date from December 31, 2017 to December 31, 2020. Amend to remove the restriction that the imported radioactive material cannot exceed the Class A definition as defined in 10 CFR 61.55. The attributed Canadian waste will be returned under XW010 (and subsequent amendments) | Canada.

For the Nuclear Regulatory Commission.
Dated this 28th day of December 2015, at Rockville, Maryland.
Elizabeth Smiroldo,
Acting Director, Office of International Programs.

[FR Doc. 2016-00162 Filed 1-7-16; 8:45 am]

BILLING CODE 7590-01-P